DEPARTMENT OF DEFENSE

Department of the Army, Corps of Engineers

33 CFR Part 334

Buzzards Bay and Adjacent Waters, Mass.; Danger Zones for Naval Operations; Corrections

AGENCY: U. S. Army Corps of Engineers, DoD.

ACTION: Correcting amendments.

SUMMARY: The U.S. Army Corps of Engineers published a document in the Federal Register on April 10, 1997 (62 FR 17550) amending its regulations to modify an existing danger zone in the waters of Buzzards Bay, Massachusetts. That document inadvertently did not include the proposed rule text that would prohibit entry into a portion of the danger zone. This document corrects the final rule by incorporating the intended prohibition of entry by persons or vessels into the designated area of the danger zone into § 334.70(a)(2).

DATES: Effective date: August 18, 2014.

FOR FURTHER INFORMATION CONTACT: Mr. David Olson, Headquarters, Operations and Regulatory Community of Practice, Washington, DC at 202-761-4922 or by email at david.b.olson@usace.army.mil.

SUPPLEMENTARY INFORMATION: The U.S. Army Corps of Engineers published a final rule in the Federal Register on April 10, 1997 (62 FR 17550), and later determined that correcting amendments need to be made to address the intended prohibited entry by vessels or persons into a portion of an established danger zone. The proposed rule was published in the Federal Register on December 20, 1996 (61 FR 67265) and it prohibited entry of vessels or persons into a portion of the danger zone to help ensure public safety during naval operations in this area.

List of Subjects in 33 CFR Part 334

Danger zones, Marine safety, Navigation (water), Restricted areas, Waterways.

For the reasons stated in the preamble, 33 CFR Part 334 is corrected by making the following correcting amendments:

PART 334—DANGER ZONE AND RESTRICTED AREA REGULATIONS

1. The authority citation for 33 CFR part 334 continues to read as follows:

Authority: 40 Stat. 266 (33 U.S.C. 1) and 40 Stat. 892 (33 U.S.C. 3).

2. In § 334.70, revise paragraph (a)(2) to read as follows:

§ 334.70 Buzzards Bay, and adjacent waters, Mass.; danger zones for naval operations.

(a) * * *

(2) The regulations. No vessel or person shall at any time enter or remain within a rectangular portion of the area bounded on the north by latitude 41°16′00″, on the east by longitude 70°47′30″, on the south by latitude 41°12′30″, and on the west by longitude 70°50′30″, or within the remainder of the area between November 1, and April 30, inclusive, except by permission of the enforcing agency.

* * * * *

Dated: August 11, 2014.
James R. Hannon,
Chief, Operations and Regulatory Directorate of Civil Works.

[FR Doc. 2014-19383 Filed 8-15-14; 8:45 am]

BILLING CODE 3720-58-P